COMMITTEE FOR PURCHASE FROM PEOPLE WHO ARE BLIND OR SEVERELY DISABLED

Additions Procurement List; Correction

In the document appearing on page 8776, FR Doc 01-2894, in the issue of February 2, 2001, in the third column the Committee published an addition to the Procurement List for Holder, Label w/Slit, 9905-01-365-2125. The addition notice is amended to indicate that 50% of the Governments Requirement is being added to the Procurement List.

G. John Heyer,
General Counsel.

[FR Doc. 01-4525 Filed 2-22-01; 8:45 am]

BILLING CODE 6353-01-P